DEPARTMENT OF TRANSPORTATION

Federal Highway Administration

Notice To Rescind a Notice of Intent To Prepare an Environmental Impact Statement for Transportation Improvements on I-95 in New London County, Connecticut

AGENCY: Federal Highway Administration (FHWA), DOT.

ACTION: Notice to Rescind a Notice of Intent.

SUMMARY: The FHWA is issuing this notice to advise the public that, effective immediately, we are rescinding the Notice of Intent (NOI) to prepare an Environmental Impact Statement (EIS) for proposed transportation improvements along the I-95 Corridor in New London County, CT. The NOI was published in the Federal Register (FR) on August 22, 2007 (FR Vol. 72, No. 162, p. 47119; FR Doc 07-4127).

FOR FURTHER INFORMATION CONTACT: Eloise Powell, Team Leader for Planning, Environment, and Research, FHWA Connecticut Division, 628-2 Hebron Avenue, Suite 303, Glastonbury, CT 06033, Telephone: (860) 494-7566, Email: eloise.powell@dot.gov.

SUPPLEMENTARY INFORMATION: The FHWA, in cooperation with the Connecticut Department of Transportation (CTDOT), issued a NOI on August 22, 2007, to prepare an EIS for proposed transportation improvements along the I-95 corridor in New London County, CT, between Interchange Exits 70 and 84, for a distance of approximately 12.3 miles. The purposes of the proposed improvements were to improve safety and provide increased capacity to meet future traffic demands. Due to the re-prioritization of major transportation projects in Connecticut and funding constraints, the CTDOT is no longer pursuing this project. Therefore, the NOI for this project is rescinded. Studies are being done to determine specific safety and capacity improvements along the I-95 corridor, and any future transportation improvements will progress under a separate environmental review process, in accordance with all applicable laws and regulations.

Dated: January 16, 2014.
Amy Jackson-Grove,
FHWA Connecticut Division Administrator, Glastonbury, Connecticut.

[FR Doc. 2014-01268 Filed 1-22-14; 8:45 am]

BILLING CODE 4910-22-P